DEPARTMENT OF ENERGY

Federal Energy Regulatory Commission

[Docket No. RP02-14-001]

Crossroads Pipeline Company; Notice of Compliance Filing

December 6, 2001.

Take notice that on November 30, 2001, Crossroads Pipeline Company (Crossroads) tendered for filing as part of its FERC Gas Tariff, First Revised Volume No. 1 (Tariff), the revised tariff sheets listed on Appendix A, with a proposed effective date of November 1, 2001. These tariff sheets are being filed in compliance with the Commission's October 31, 2001 Letter Order in the above-referenced docket.

Crossroads states that a copy of this filing is available for public inspection during regular business hour at Crossroads's office at 12801 Fair Lakes Parkway, Fairfax, Virginia, and 10 G Street, NE., Suite 580, Washington, DC 20002. In addition, copies of this filing have been mailed to all affected customers, interested state commissions and parties to this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30714 Filed 12-11-01; 8:45 am]

BILLING CODE 6717-01-P